DEPARTMENT OF AGRICULTURE

Forest Service

Notice of New Fee Site; Federal Lands Recreation Enhancement Act, (Title VIII, Pub. L. 108-447)

AGENCY: Monongahela National Forest, USDA Forest Service.

ACTION: Notice of new fee site.

SUMMARY: The Monongahela National Forest is planning to charge a $5.00 fee for overnight camping at the numbered campsites located along the Williams and Cranberry Rivers. These campsites are located on the Gauley and Marlinton Ranger Districts. These campsites include the basic amenities found in rustic Forest Service campgrounds. These campsites have been in use for many years, and were previously free-of-charge. Fee collections will be used to maintain and operate these campsites.

DATES: The proposed fee will be established in April of 2008.

ADDRESSES: Forest Supervisor, Monongahela National Forest, 200 Sycamore Street, Elkins, West Virginia, 26241.

FOR FURTHER INFORMATION CONTACT: Tim Henry, Recreation Forester, 304-799-4334.

SUPPLEMENTARY INFORMATION: The Federal Recreation Lands Enhancement Act (Title VII, P.L. 108-447) directed the Secretary of Agriculture to publish a six month advance notice in the Federal Register whenever new recreation fee areas are established. This new fee will be reviewed by a Recreation Resource Advisory Committee prior to a final decision and implementation.

Public notification has been conducted on-site and in the local region. Comments received have been supportive of this proposal. People using these campsites desire to see the sites well maintained and available for recreational use. a market analysis indicates that the $5/per night fee is both reasonable and acceptable for this sort of recreation experience.

Dated: August 20, 2007.
Clyde Thompson,
Monongahela National Forest Supervisor.

[FR Doc. 07-4580 Filed 9-14-07; 8:45 am]

BILLING CODE 3410-11-M